DEPARTMENT OF LABOR

Employment and Training Administration

Veterans' Employment and Training Administration

DEPARTMENT OF EDUCATION

DEPARTMENT OF HEALTH AND HUMAN SERVICES

Administration for Children and Families

DEPARTMENT OF AGRICULTURE

Food and Nutrition Service

DEPARTMENT OF HOUSING AND URBAN DEVELOPMENT

Required Elements for Submission of the Unified or Combined State Plan and Plan Modifications Under the Workforce Innovation and Opportunity Act

ACTION: Notice.

SUMMARY: In accordance with the Paperwork Reduction Act of 1995 (44 U.S.C. 3501 et seq.), the U.S. Departments of Labor, Education, Health and Human Services, Agriculture, and Housing and Urban Development (Departments) are proposing a new information collection: Required Elements for Submission of the Unified or Combined State Plan and Plan Modifications under the Workforce Innovation and Opportunity Act (WIOA) (Pub. L. 113-128).

DATES: Interested persons are invited to submit comments on or before October 5, 2015.

ADDRESSES: Comments submitted in response to this notice should be submitted electronically through the Federal eRulemaking Portal at http://www.regulations.gov by selecting Docket ID number ETA-2015-0006 or via postal mail, commercial delivery, or hand delivery. A copy of the proposed information collection request (ICR) with applicable supporting documentation, including a description of the likely respondents, proposed frequency of response, and estimated total burden may be obtained free of charge from http://www.regulations.gov or by contacting Heather Fleck by telephone at 202-693-2956, TTY 1-877-889-5627 (these are not toll-free numbers), or by email at fleck.heather@dol.gov. Mail and hand delivery/courier: Submit comments to Chief/WIOA State Plan, Division of WIOA Adult Services and Workforce System, Room S-4203, Employment and Training Administration, U.S. Department of Labor, 200 Constitution Avenue NW., Washington, DC 20210. Due to security-related concerns, there may be a significant delay in the receipt of submissions by United States Mail. You must take this into consideration when preparing to meet the deadline for submitting comments.

Comments submitted in response to this comment request will become a matter of public record and will be summarized and included in the request for Office of Management and Budget approval of the information collection request. In addition, regardless of the delivery method, comments will be posted without change on the http://www.regulations.gov Web site; consequently, the Departments recommend commenters not include personal information such as Social Security Number, personal address, telephone number, email address, or confidential business information, that they do not want made public. It is the responsibility of the commenter to determine what to include in the public record and to safeguard personal information.

Authority: 44 U.S.C. 3506(c)(2)(A).

SUPPLEMENTARY INFORMATION: The Departments, in accordance with the Paperwork Reduction Act of 1995 (PRA) (44 U.S.C. 3506(c)(2)(A)), provide the general public and Federal agencies with an opportunity to comment on proposed, revised, and continuing collections of information. The PRA helps the Departments assess the impact of their information collection requirements and minimizes the public's reporting burden. It also helps the public understand the Departments' information collection requirements and provide the requested data in the desired format. The Departments are soliciting comments on the proposed ICR that is described below. The Departments are especially interested in public comment addressing the following issues: (1) Is this collection necessary to the proper functions of the Departments; (2) will this information be processed and used in a timely manner; (3) is the estimate of burden accurate; (4) how might the Departments enhance the quality, utility, and clarity of the information to be collected; and (5) how might the Departments minimize the burden of this collection on the respondents, including through the use of information technology. Please note that written comments received in response to this notice will be considered public records, and comments posted are viewable by the public.

Title of Collection: Required Elements for Submission of the Unified or Combined State Plan and Plan Modifications under the Workforce Innovation and Opportunity Act.

OMB Control Number: 1205—0NEW.

Type of Review: A new information collection.

Respondents/Affected Public: State, Local and Tribal Governments.

Total Estimated Number of Respondents: 57.

Total Estimated Number of Annual Responses: 38.

Total Estimated Number of Annual Burden Hours: 3,278.

Total Estimated Annual Burden Cost: $141,707.00.

Abstract: Sections 102 and 103 of the Workforce Innovation and Opportunity Act (WIOA) (29 U.S.C. 3112 and 3113) require a State Governor to submit a Unified or Combined State Plan for approval every four years in order to receive funds under six core workforce development programs, identified below. Modifications to these plans must be submitted at least every two years. The Unified or Combined State Plan requirements are designed to improve service integration and ensure that the State's publicly-funded workforce system helps all jobseekers obtain the skills needed to secure good jobs while providing businesses with the skilled workers they need to compete in the global economy. The Unified or Combined State Plan would describe how the State will develop and implement a unified, integrated service delivery system rather than discuss the State's approach to operating each program individually.

Section 102(a) of WIOA requires each State, at a minimum, to submit a Unified State Plan that fosters strategic alignment of the core programs, which include the Adult, Dislocated Worker, and Youth programs (Title I); the Adult Education and Family Literacy Act program (Title II); the Wagner-Peyser program (Title III); and the Vocational Rehabilitation program (Title IV). In the alternative, Section 103 of WIOA permits a State to submit a Combined State Plan that includes the core programs plus one or more of the optional Federal programs listed in Section 103(b). If the State chooses to submit a Combined State Plan, the plan must incorporate all of the common planning elements required in the Unified State Plan, additional elements describing how the State will coordinate the optional programs with the core programs (WIOA Sec. 103(b)(3)), and elements required by the optional program(s) that are included in the Combined State Plan.

This consolidated ICR for the Unified or Combined State Plan will replace existing planning information collections for the core programs. For States that choose to submit a Combined State Plan, the existing information collections for the program-specific State plans for the optional programs will continue to exist under their current control numbers. If the Combined State Plan is approved, the State is not required to submit any other plan to receive Federal funding for any optional program covered under that Combined State Plan (WIOA sec. 103(b)(2)). If a State plan for an optional program changes from the one approved under the Combined State Plan, the State may have to submit additional plans to the appropriate Department—such additional plans will be counted under the optional programs' existing information collection requirements.

Some of the optional programs that a State may include in the Combined State Plan currently fulfill their program-specific State planning requirements through a broader information collection administered by the program's appropriate Department. For example, section 103(b)(2) of WIOA specifically allows the employment and training activities carried out under the Community Services Block Grant (CSBG) Act administered by the Department of Health and Human Services and employment and training activities under the Department of Housing and Urban Development to be included in a WIOA Combined State Plan. However, the existing CSBG information collection, for example, includes planning elements for the employment and training activities along with planning elements for other activities under CSBG. Therefore, if States choose to include programs such as these in the Combined Plan, only the portion of the existing planning requirements that address the employment and training activities are included in the Combined State Plan (WIOA sec. 103), and States are still required to separately submit all other required elements of a complete CSBG State Plan directly to the Federal agency that administers the program.

Departmental program-specific State Plan requirements for the optional programs that may be included in the Combined State Plan will continue collecting data under the information collections currently approved by OMB. This Notice is not soliciting comments about these currently approved information collections.

As mentioned above, this ICR is intended to cover the State planning information collection requirements in sections 102 and 103 of WIOA. The notice of proposed rulemaking (NPRM) proposing regulations that would implement those sections was published on April 16, 2015, at 80 FR 20573. The comment period closed on June 15, 2015. The proposed regulations that correspond to these information collection requirements are: 20 CFR part 676 (WIOA Adult, Dislocated Worker, and Youth programs and Wagner-Peyser Act programs); 34 CFR part 361, subpart D (State Vocational Rehabilitation Services Program); and 34 CFR part 463, subpart H (Adult Education and Family Literacy Act programs).

Sec. 102(c)(1)(A) of WIOA requires States to submit their first Unified State Plan to the Secretary of Labor not later than 120 days prior to the commencement of the second full program year after the date of enactment of WIOA, which was July 22, 2014. Therefore, the second full program year commences on July 1, 2016, and the State plans must be submitted no later than March 3, 2016. Approval of this ICR is required so that the States can begin working to develop their plans, a process that requires months of coordination among State agencies and other stakeholders.

The Departments have all worked together to develop this information collection; however, this information collection will initially be approved under a Department of Labor, Employment and Training Administration (ETA) account using the common forms clearance process that allows several agencies to use a single information collection instrument. Burden estimates for all the partner agencies have been included in this Notice, in order to facilitate an understanding of the full impact of the collection; however, in accordance with OMB guidance for common forms, the ICR submitted to OMB will initially identify only the ETA burdens. OMB approval of the ICR will trigger the ability for the other Federal agencies to formally submit requests to sign on the collection; those actions would not require additional notice or public comment. This ICR may receive OMB approval before Final Rules implementing WIOA are published. If this occurs, the Departments will submit another ICR for this collection to OMB to incorporate the Final Rule citations, as required by 5 CFR 1320.11(h). Those citations currently do not exist and, therefore, cannot be included at this time. Additionally, the Departments will review, analyze, and incorporate any comments received on the NPRM that are relevant to this ICR together with comments we receive in response to this Federal Register Notice in order to finalize the substantive information collection requirements to the extent legally possible.

Portia Wu,
Assistant Secretary for Employment and Training, U.S. Department of Labor.
Johan E. Uvin,
Acting Assistant Secretary for the Office of Career, Technical, and Adult Education, U.S. Department of Education.
Michael K. Yudin,
Assistant Secretary for the Office of Special Education and Rehabilitative Services, U.S. Department of Education.
Mark H. Greenberg,
Acting Assistant Secretary for Children and Families, U.S. Department of Health and Human Services.
Teresa W. Gerton,
Acting Assistant Secretary for Veterans' Employment and Training, U.S. Department of Labor.
Kevin Concannon,
Under Secretary, Food, Nutrition, and Consumer Services, U.S. Department of Agriculture.
Clifford Taffet,
General Deputy Assistant Secretary, Office of Community Planning and Development, U.S. Department of Housing and Urban Development.
Jemine A. Bryon,
General Deputy Assistant Secretary for Public and Indian Housing, U.S. Department of Housing and Urban Development.

[FR Doc. 2015-19286 Filed 8-5-15; 8:45 am]

BILLING CODE 4510-30-P